DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. There applications have been separated from the new application for special permits to facilitate processing.

DATES: Comments must be received on or before October 3, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

This notice of receipt of applications for modification of special permit is published in accordance with Part 107 of the Federal hazardous materials transportation law (49 U.S.C. 5117(b); 49 CFR 1.53(b)).

Issued in Washington, DC, on September 11, 2007.
Delmer F. Billings,
Director,Office of Hazardous Materials,Special Permits and Approvals.

Application No. | Docket No. | Applicant | Regulation(s) affected | Nature of special permit thereof
MODIFICATION SPECIAL PERMITS
10814-M |  | Lorad A Hologic Company Danbury, CT | 49 CRR 173.302, 175.3 | To modify the special permit to authorize the manufacture, marking, sale and use of an additional industrial X-ray instrumentation for the transportation of nonliquefied sulfur hexafluoxide.
12866-M | RSPA-2001-11096 | Delta Airlines, Inc Atlanta, GA | 49 CFR 172.301(c); 173.219(b)(1); 173.302(a); 175.3 | To modify the special permit to authorize the transportation in commerce of an additional Division 2.2 gas.
12899-M | RSPA-2002-11387 | Pencor Reservoir Fluid Specialists Broussard, LA | 49 CFR 173.201(c); 173.202(c); 173.203(c); 173.302(a); 173.304(a) and (b); 175.3; 173.34(d), 178.36(a) | To modify the speial permit to remove the volume requirement of § 178.36(a).
13207-M | RSPA-2003-15068 | BEI Honolulu, HI | 49 CFR 173.32(f)(5) | To modify the special permit to authorize the transportation in commerce of an additional Class 8 material.
13244-M | RSPA-2003-15626 | Schlumberger Technology Corporation (Former Grantee: Kihei industries) Houston, TX | 49 CFR 173.302; 173.306(b)(4); 175.3 | To modify the special permit to authorize an increase in operating pressure for certain tube devices authorized in the special permit.
14441-M | PHMSA-2007-27490 | B.J. Alan Company Younstown, OH | 49 CFR 173.60 | To modify the special permit to authorize additional carriers for the transportation in commerce of certain Division 1.4G fireworks.
14518-M |  | Alliant Techsystems, Inc. (ATK) Plymouth, MN | 49 CFR 173.62 | To reissue the special permit originally issued on an emergency basis for the transportation in commerce of Primers, cap type, UN0044 in non-DOT specification packaging when transported by private carrier for a distance of 10 miles or less.
14530-M |  | Sandia National Laboratories Livermore, CA | 49 CFR 173.242 | To reissue the special permit originally issued on an emergency basis for the transportation in commerce of a PG III flammable liquid in alternative packaging (a Neutron Scatter Camera) by motor vehicle and cargo vessel.
14531-M |  | Astar Air Cargo, Inc. Wilmington, OH | 49 CFR Parts 100-180 | To reissue the special permit originally issued on an emergency basis for the transportation in commerce of a breath tester in company owned aircraft as unregulated.
14533-M |  | Skydance Helicopters of Northern Nevada, Inc. Minden, NV | 49 CFR 172.101 Column (9B) | To reissue the special permit originally issued on an emergency basis for the transportation in commerce of certain forbidden explosives by helicopter in remote areas of Utah, Oklahoma, Colorado and Wyoming to seismic drilling sites.
14551-M | PHMSA-2007-28928 | Aerojet Redmond, WA | 49 CFR 173.56 | To reissue the special permit originally issued on an emergency basis for the transportation in commerce of certain explosives as Dangerous Good in Apparatus, UN3363 instead of the EX classification of Cartridge, power device, UN0323.

[FR Doc. 07-4602 Filed 9-17-07; 8:45 am]

BILLING CODE 4909-60-M